DEPARTMENT OF LABOR

Occupational Safety and Health Administration

Maritime Advisory Committee for Occupational Safety and Health (MACOSH); Committee Reestablishment

AGENCY: Occupational Safety and Health Administration (OSHA), Labor.

ACTION: Notice of MACOSH reestablishment.

SUMMARY: In accordance with the provisions of the Federal Advisory Committee Act, as amended (5. U.S.C., App. 2), and after consultation with the General Services Administration, the Secretary of Labor intends to reestablish the Maritime Advisory Committee for Occupational Safety and Health. The Committee will better enable OSHA to perform the duties imposed by the Occupational Safety and Health (OSH) Act of 1970 (29 U.S.C. 655, 656). Authority to establish this Committee is found in Sections 6(b)(1) and 7(b) of the OSH Act, Section 41 of the Longshore and Harbor Workers' Compensation Act (33 U.S.C. 941), Secretary of Labor's Order 4—2010 (75 FR 55355, Sept. 10, 2010), and 29 CFR part 1912. The Committee is diverse and balanced, both in terms of segments of the maritime industry represented (e.g., shipyard employment, longshoring, and marine terminal industries), and in the views or interests represented by the members.

FOR FURTHER INFORMATION CONTACT: Joseph V. Daddura, Director, Office of Maritime within the Directorate of Standards and Guidance, U.S. Department of Labor, Occupational Safety and Health Administration, Room N-3609, 200 Constitution Avenue, NW., Washington, DC 20210; telephone: (202) 693-2086.

SUPPLEMENTARY INFORMATION: The Committee will advise OSHA on matters relevant to the safety and health of employees in the maritime industry. This includes advice on maritime issues that will result in more effective enforcement, training, and outreach programs, and streamlined regulatory efforts. The maritime industry includes shipyard employment, longshoring, and marine terminal industries. The Committee will function solely as an advisory body and in compliance with the provisions of the Federal Advisory Committee Act and OSHA's regulations covering advisory committees (29 CFR part 1912).

Authority: This notice was prepared under the direction of David Michaels, PhD, MPH, Assistant Secretary of Labor for Occupational Safety and Health, U.S. Department of Labor, 200 Constitution Avenue, NW., Washington, DC 20210, pursuant to Sections 6(b)(1), and 7(b) of the Occupational Safety and Health Act of 1970 (29 U.S.C. 655(b)(1), 656(b)), the Federal Advisory Committee Act (5. U.S.C. App. 2), Section 41 of the Longshore and Harbor Workers' Compensation Act (33 U.S.C. 941), Secretary of Labor's Order 4—2010 (75 FR 55355, Sept. 10, 2010), and 29 CFR part 1912.

Signed at Washington, DC, on January 4, 2011.
David Michaels,
Assistant Secretary of Labor for Occupational Safety and Health.

[FR Doc. 2011-166 Filed 1-7-11; 8:45 am]

BILLING CODE 4510-26-P